DEPARTMENT OF COMMERCE

Foreign-Trade Zones Board

[B-57-2014]

Foreign-Trade Zone 106—Oklahoma City, Oklahoma, Application for Expansion (New Magnet Site) Under Alternative Site Framework

An application has been submitted to the Foreign-Trade Zones (FTZ) Board (the Board) by the Port Authority of Greater Oklahoma City, grantee of Foreign-Trade Zone 106, requesting authority to expand its zone under the alternative site framework (ASF) adopted by the Board (15 CFR 400.2(c)) to include a new magnet site in Shawnee, Oklahoma. The application was submitted pursuant to the Foreign-Trade Zones Act, as amended (19 U.S.C. 81a-81u) and the regulations of the Board (15 CFR part 400). It was formally docketed on August 12, 2014.

FTZ 106 was established by the Board on September 13, 1984 (Board Order 271, 49 FR 36133, 9/21/84), and expanded on December 7, 1989 (Board Order 455, 54 FR 51441, 12/15/89), on February 10, 2000 (Board Order 1078, 65 FR 8337-8338, 2/18/00), on September 28, 2007 (Board Order 1529, 72 FR 56722-56723, 10/4/07), and on June 26, 2009 (Board Order 1628, 74 FR 32892, 7/9/09). FTZ 106 was reorganized and expanded under the ASF on February 29, 2012 (Board Order 1816, 77 FR 15357, 3/15/12). The zone currently has a service area that includes Blaine, Caddo, Canadian, Cleveland, Comanche, Custer, Garfield, Garvin, Grady, Kay, Kingfisher, Lincoln, Logan, McClain, Noble, Oklahoma, Payne, Pontotoc, Pottawatomie, Seminole and Stephens Counties, Oklahoma.

The zone consists of the following eight sites (five magnet and three usage-driven): Site 1 (1,091 acres)—located within the Will Rogers World Airport complex and at the Will Rogers World Airport NE in Oklahoma City; Site 2 (6 acres, sunset 2/28/2015)—Biagi Bros. Warehouse, 5002 SW 36th, Oklahoma City; Site 12 (26 acres, sunset 2/28/2017)—ICON Center Industrial Park, 300 Arlington, Ada; Site 13 (308 acres, sunset 2/28/2017)—within the 401-acre Guthrie/Edmond Regional Airport, 520 Airport Road, Guthrie; Site 14 (19 acres, sunset 2/28/2015)—Industrial Gasket, Inc. dba International Group, facility, 720 South Sara Road, Mustang; Site 15 (67.688 acres, sunset 2/28/2017)—Cimarron Industrial Park at the Enid Woodring Regional Airport, 1026 S. 66th, Enid; Site 16 (63.434 acres, sunset 2/28/2017)—Shawnee Regional Airport industrial park, 2202 Airport Road, Shawnee; and, Site 17 (59.33 acres, sunset 8/31/2015)—VF Jeanswear Limited Partnership, 1400 Wrangler Boulevard, Seminole.

The applicant is now requesting authority to expand its zone to include an additional magnet site: Proposed Site 18 (400 acres)—The Iron Horse Industrial Park, 43350 Hardesty Road, Shawnee. The proposed new site is adjacent to the Oklahoma City Customs and Border Protection port of entry.

In accordance with the Board's regulations, Camille Evans of the FTZ Staff is designated examiner to evaluate and analyze the facts and information presented in the application and case record and to report findings and recommendations to the Board.

Public comment is invited from interested parties. Submissions shall be addressed to the Board's Executive Secretary at the address below. The closing period for their receipt is October 14, 2014. Rebuttal comments in response to material submitted during the foregoing period may be submitted during the subsequent 15-day period to October 29, 2014.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: August 12, 2014.
Andrew McGilvray,
Executive Secretary.

[FR Doc. 2014-19419 Filed 8-14-14; 8:45 am]

BILLING CODE 3510-DS-P